NUCLEAR REGULATORY COMMISSION

[Docket No. 50-313]

Entergy Operations, Inc., Arkansas Nuclear One, Unit 1, Notice of Availability of the Final Supplement 3 to the Generic Environmental Impact Statement Regarding the License Renewal of Arkansas Nuclear One, Unit 1

Notice is hereby given that the U. S. Nuclear Regulatory Commission (the Commission) has published a final plant-specific Supplement 3 to the Generic Environmental Impact Statement (GEIS), NUREG-1437, regarding the renewal of operating license DPR-51 for an additional 20 years of operation at Arkansas Nuclear One, Unit 1 (ANO-1). ANO-1 is located in Pope County, Arkansas. Possible alternatives to the proposed action (license renewal) include no action and reasonable alternative energy sources.

In Section 9.3 of the report, the staff concludes:

The staff recommends that the Commission determine that the adverse environmental impacts of license renewal for ANO-1 are not so great that preserving the option of license renewal for energy planning decisionmakers would be unreasonable. This recommendation is based on (1) the analysis and findings in the Generic Environmental Impact Statement for License Renewal of Nuclear Power Plants, NUREG-1437; (2) the Entergy ER [Environmental Report]; (3) consultation with other Federal, State, and local agencies; (4) the staff's own independent review; and (5) the staff's consideration of public comments.

The final Supplement 3 to the GEIS is available electronically for public inspection in the NRC Public Document Room located at One White Flint North, 11555 Rockville Pike (first floor), Rockville, Maryland, or from the Publicly Available Records (PARS) component of NRC's document system (ADAMS). ADAMS is accessible from the NRC Web site at http://www.nrc.gov/NRC/ADAMS/index.html (the Public Electronic Reading Room).

FOR FURTHER INFORMATION, CONTACT: Mr. Thomas J. Kenyon, Generic Issues, Environmental, Financial, and Rulemaking Branch, Division of Regulatory Improvement Programs, U.S. Nuclear Regulatory Commission, Washington, DC 20555. Mr. Kenyon may be contacted at (301) 415-1120 or by writing to: Thomas J. Kenyon, U.S. Nuclear Regulatory Commission, MS 0-11 F1, Washington, DC 20555.

Dated at Rockville, Maryland, this 5th day of April, 2001.
For the Nuclear Regulatory Commission.
David B. Matthews,
Director, Division of Regulatory Improvement Programs, Office of Nuclear Reactor Regulation.

[FR Doc. 01-11109 Filed 5-2-01; 8:45 am]

BILLING CODE 7590-01-P